NUCLEAR REGULATORY COMMISSION

[Docket No. 52-039]

PPL Bell Bend, LLC; Acceptance for Docketing of an Application for Combined License for Bell Bend Nuclear Power Plant

By letter dated October 10, 2008, as supplemented by letters dated November 18, 24, 2008, and December 1, 8, 2008, PPL Bell Bend, LLC submitted an application to the U.S. Nuclear Regulatory Commission (NRC) for a combined license (COL) for a single unit of the U.S. Evolutionary Power Reactor (U.S. EPR) in accordance with the requirements contained in Title 10 of the Code of Federal Regulations (10 CFR) Part 52, “Licenses, Certifications, and Approvals for Nuclear Power Plants.” This reactor will be identified as Bell Bend Nuclear Power Plant and is to be located on a site adjacent to the existing Susquehanna Steam Electric Station in Luzerne County, Pennsylvania. A notice of receipt and availability of this application was previously published in the Federal Register (73 FR 67214) on November 13, 2008.

The NRC staff has determined that PPL Bell Bend, LLC has submitted information in accordance with 10 CFR Part 2, “Rules of Practice for Domestic Licensing Proceedings and Issuance of Orders,” and 10 CFR Part 52 that is acceptable for docketing. The Docket Number established is 52-039.

The NRC staff will perform a detailed technical review of the application. Docketing of the application does not preclude the NRC from requesting additional information from the applicant as the review proceeds, nor does it predict whether the Commission will grant or deny the application. The Commission will conduct a hearing in accordance with Subpart L, “Informal Hearing Procedures for NRC Adjudications,” of 10 CFR Part 2 and will receive a report on the COL application from the Advisory Committee on Reactor Safeguards in accordance with 10 CFR 52.87, “Referral to the Advisory Committee on Reactor Safeguards (ACRS).” If the Commission finds that the COL application meets the applicable standards of the Atomic Energy Act and the Commission's regulations, and that required notifications to other agencies and bodies have been made, the Commission will issue a COL, in the form and containing conditions and limitations that the Commission finds appropriate and necessary.

In accordance with 10 CFR part 51, the Commission will also prepare an environmental impact statement for the proposed action. Pursuant to 10 CFR 51.26, and as part of the environmental scoping process, the staff intends to hold a public scoping meeting. Detailed information regarding this meeting will be included in a future Federal Register notice.

Finally, the Commission will announce in a future Federal Register notice the opportunity to petition for leave to intervene in the hearing required for this application by 10 CFR 52.85.

Documents may be examined, and/or copied for a fee, at the NRC's Public Document Room (PDR), located at One White Flint North, Public File Area O1 F21, 11555 Rockville Pike (first floor), Rockville, Maryland, and will be accessible electronically through the Agencywide Documents Access and Management System (ADAMS) Public Electronic Reading Room link at the NRC Web site http://www.nrc.gov/reading-rm/adams.html. The application is also available at http://www.nrc.gov/reactors/new-reactors/col.html. Persons who do not have access to ADAMS or who encounter problems in accessing documents located in ADAMS should contact the NRC PDR Reference staff by telephone at 1-800-397-4209, 301-415-4737, or by e-mail to pdr@nrc.gov.

Dated at Rockville, Maryland this 19th day of December 2008.
For the Nuclear Regulatory Commission.
Michael A. Canova,
Project Manager, U.S. EPR Projects Branch, Division of New Reactor Licensing, Office of New Reactors.

[FR Doc. E8-30776 Filed 12-24-08; 8:45 am]

BILLING CODE 7590-01-P